COMMODITY FUTURES TRADING COMMISSION

17 CFR Parts 1, 41, and 190

RIN 3038-AB76

SECURITIES AND EXCHANGE COMMISSION

17 CFR Part 240

[Release No. 34-46473; File No. S7-17-01]

RIN 3235-AI32

Applicability of CFTC and SEC Customer Protection, Recordkeeping, Reporting, and Bankruptcy Rules and the Securities Investor Protection Act of 1970 to Accounts Holding Security Futures Products

Correction

In rule document 02-23274 beginning on page 58284 in the issue of Friday, September 13, 2002, make the following corrections:

1. On page 58287, in the first column, in footnote 30, in the third line, “ “FCM” that is fully registered” should read, “ “FCM” pertains to an FCM that is fully registered”.

2. On page 58288, in the first column, in footnote 35, “notes through” should read, “notes 15 through 18”.

3. On the same page, in the second column, in footnote 39, in the seventh line, after “note”, add “44”.

4. On the same page, in the third column, in footnote 41, “notes and” should read, “notes 42 and 43.”.

5. On page 58291, in the second column, in footnote 69, after “note”, add “8”.

6. On page 58292, in the third column, in footnote 79, in the fifth line, after “note”, add “74”.

7. On page 58295, in the first column, in footnote 88, “NSD” should read, “NASD”.

[FR Doc. C2-23274 Filed 11-4-02; 8:45 am]

BILLING CODE 1505-01-D

DEPARTMENT OF DEFENSE

Department of the Army; Corps of Engineers

Intent to Prpare a Draft Supplemental Environmental Impact Statement for the Design Modifications and Recreational Enhancements to the Wyoming Valley Levee Raising Project at the Wilkes-Barre, PA Historic River Commons

Correction

In notice document 02-27156 beginning on page 65343 in the issue of Thursday, October 24, 2002, make the following correction:

On page 65343, in the third column, under the heading 3. Purpose and Need, in the second line, “will project” should read “ will provide”.

[FR Doc. C2-27156 Filed 11-4-02; 8:45 am]

BILLING CODE 1505-01-D